DEPARTMENT OF HEALTH AND HUMAN SERVICES

Centers for Disease Control and Prevention

Advisory Committee to the Director (ACD), Centers for Disease Control and Prevention (CDC)—State, Tribal, Local and Territorial Subcommittee (STLT)

AGENCY: Centers for Disease Control and Prevention (CDC), Department of Health and Human Services (HHS).

ACTION: Notice of meeting.

SUMMARY: In accordance with the Federal Advisory Committee Act, the CDC announces the following meeting for the Advisory Committee to the Director, Centers for Disease Control and Prevention—State, Tribal, Local and Territorial Subcommittee (ACD, CDC-STLT). This meeting is open to the public, limited only by the room seating, audio phone lines and net conference access available. The public is also welcome to listen to the meeting by dialing (877) 692-1879, entering participant code 57852858, with 100 ports available. The public comment period is from 2:00 p.m.-2:15 p.m. No advance registration is required.

DATES: The meeting will be held on August 2, 2018, 8:30 a.m. to 4:00 p.m., EST.

ADDRESSES: Centers for Disease Control and Prevention, Building 19, Rooms 245-246, 1600 Clifton Road NE, Atlanta, Georgia 30329. This meeting is also available by teleconference. Please dial (877) 692-1879 and enter code 57852858.

FOR FURTHER INFORMATION CONTACT: Jose Montero, MD, Designated Federal Officer, STLT Subcommittee, ACD, CDC, 4770 Buford Hwy, MS E70, Atlanta, GA 30341, Telephone (404) 498-0259, Email: OSTLTSDirector@cdc.gov.

SUPPLEMENTARY INFORMATION:

Purpose: The Subcommittee will provide counsel to the ACD on strategies, future needs, and challenges faced by State, Tribal, Local and Territorial health agencies, and will provide guidance on opportunities for CDC through the ACD.

Matters to be Considered: The agenda will include discussions on implementation of ACD-adopted recommendations related to the health department of the future, other emerging challenges, and how CDC can best support STLT health departments in the transforming health system. Agenda items are subject to change as priorities dictate.

The Director, Management Analysis and Services Office, has been delegated the authority to sign Federal Register notices pertaining to announcements of meetings and other committee management activities, for both the Centers for Disease Control and Prevention and the Agency for Toxic Substances and Disease Registry.

Elaine Baker,
Director, Management Analysis and Services Office, Centers for Disease Control and Prevention.

[FR Doc. 2018-07772 Filed 4-13-18; 8:45 am]

BILLING CODE 4163-19-P